UNITED STATES INSTITUTE OF PEACE

Sunshine Act; Notice of Meeting

Date/Time: Wednesday—June 16, 2004 (6 p.m.-9 p.m.). Thursday—June 17, 2004 (9:15 a.m.-8 p.m.). Friday—June 18, 2004 (9:15 a.m.—3:30 p.m.)

Location: Westfields Marriott Conference Center, 14750 Conference Center Drive, Chantilly, VA 20151, USA.

Status: Open Session—Portions may be closed pursuant to subsection (c) of section 552(b) of title 5, United States Code, as provided in subsection 1706(h)(3) of the United States Institute of Peace Act, Public Law 98-525.

Agenda: June 2004 Board Meeting; Approval of Minutes of the One Hundred and Fourteenth Meeting (March 25, 2004) of the Board of Directors; Chairman's Report; President's Report; Review, Discussion and Approval of Solicited Topics for Grants; Selection of National Peace Essay Contest Winners; Committee Reports; Discussion of Strategic Plan Implementation; Review of Select USIP Policies; Other General Issues.

FOR FURTHER INFORMATION CONTACT: Tessie Higgs, Executive Office, Telephone: (202) 429-3836.

Dated: May 25, 2004.
Harriet Hentges,
Executive Vice President, United States Institute of Peace.

[FR Doc. 04-12405 Filed 5-27-04; 11:20 am]

BILLING CODE 6820-AR-M